DEPARTMENT OF THE INTERIOR

Fish and Wildlife Service

[FWS-R8-ES-2022-0051; FXES11140800000-223-FF08EVEN00]

Receipt of Incidental Take Permit Application and Proposed Habitat Conservation Plan for California Tiger Salamander and California Red-Legged Frog; Monterey County, CA; Categorical Exclusion

AGENCY: Fish and Wildlife Service, Interior.

ACTION: Notice of availability; request for comments.

SUMMARY: We, the Fish and Wildlife Service (Service), announce receipt of an application from Mike Knoop and Michelle Wright (applicants) for an incidental take permit (ITP) under the Endangered Species Act. The applicants request the ITP to take the federally listed California tiger salamander and California red-legged frog, incidental to the development of a single-family residence in Carmel Valley, California. We request public comment on the ITP application, which includes the applicants' proposed habitat conservation plan (HCP), and on the Service's preliminary determination that this HCP qualifies as “low effect,” categorically excluded under the National Environmental Policy Act. To make this determination, we used our environmental action statement and low-effect screening form, both of which are also available for public review.

DATES: Written comments should be received on or before June 24, 2022.

ADDRESSES:

To obtain documents: You may obtain copies of the documents online in Docket No. FWS-R8-ES-2022-0051 at https://www.regulations.gov, or you may request copies of the documents by email, phone, or U.S. mail (see FOR FURTHER INFORMATION CONTACT).

To submit comments: If you wish to submit comments on any of the documents, you may do so in writing by any one of the following methods:

• Online: https://www.regulations.gov. Follow the instructions for submitting comments on Docket No. FWS-R8-ES-2022-0051.

• U.S. mail: Public Comments Processing, Attn: Docket No. FWS-R8-ES-2022-0051; U.S. Fish and Wildlife Service, MS: PRB/3W, 5275 Leesburg Pike, Falls Church, VA 22041-3803.

FOR FURTHER INFORMATION CONTACT: Karen Sinclair, Biologist, by email at karen_sinclair@fws.gov, by phone at 805-677-3315, or by U.S. mail at the Ventura Fish and Wildlife Office, 2493 Portola Rd #B, Ventura, CA 93003.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), announce the availability of a draft habitat conservation plan (HCP) and draft screening form for a low-effect incidental take permit (ITP) determination, and a National Environmental Policy Act (NEPA) environmental action statement (screening form) for activities described in an application for an incidental take permit (ITP) under the Endangered Species Act of 1973, as amended (ESA; 16 U.S.C. 1531 et seq.). The application was received from Mike Knoop and Michelle Wright (applicants). If granted, the permit would authorize take of the federally threatened California tiger salamander (Ambystoma californiense) and California red-legged frog (Rana draytonii) incidental to activities described in the HCP for the construction of a single-family residence, within Monterey County Parcels 187-021-040 and 187-021-041, and driveway improvements within adjacent parcels 187-021-028 and 187-021-013, in the northern foothills of Carmel Valley, California. The applicants developed a draft HCP as part of their application for an ITP under section 10(a)(1)(B) of the ESA. The Service prepared a draft screening form in accordance with NEPA (42 U.S.C. 4321 et seq.) to evaluate the potential effects to the natural and human environment resulting from issuing an ITP to the applicants. We invite public comment on these documents.

Background

The California tiger salamander was listed as threatened on August 8, 2004 (69 FR 47212), and the California red-legged frog was listed as threatened on May 23, 1996 (61 FR 25813). Section 9 of the ESA prohibits the “take” of fish or wildlife species listed as endangered. Pursuant to section 4(d) of the ESA, the take prohibition was extended by regulation to certain threatened species, including, as applicable here, the California tiger salamander and California red-legged frog. “Take” is defined under the ESA to include the following activities: “to harass, harm, pursue, hunt, shoot, wound, kill, trap, capture, or collect, or to attempt to engage in any such conduct” (16 U.S.C. 1532); however, under section 10(a)(1)(B) of the ESA, we may issue permits to authorize incidental take of listed species. Incidental take is take that is incidental to, and not the purpose of, carrying out of an otherwise lawful activity. Issuance of an ITP also must not jeopardize the existence of federally listed fish, wildlife, or plant species, pursuant to section 7 of the ESA and 50 CFR 402.02. The permittee would receive assurances under our “No Surprises” regulations (50 CFR 17.22(b)(5)).

Applicants' Proposed Activities

The applicants have applied for a 10-year-term permit for incidental take of the California tiger salamander and the California red-legged frog. The take would occur in association with the construction of a single-family home and associated activities, such as vegetation removal, site grubbing, and grading for proposed development. The proposed development, including the home, infrastructure, driveway improvements, utility expansions, detached underground guest suite, underground garage and utility room, an equipment room, retaining wall and patios, and all associated disturbance areas, would be sited on approximately 2.39 acres (ac) of the 265-ac property. Approximately 2.60 ac would be temporarily impacted and would be restored to pre-construction conditions. To mitigate the effects of permanent impacts and the taking of California tiger salamander and the California red-legged frog, the applicants propose to purchase 9.56 ac of credits at the Sparling Ranch Conservation Bank in Santa Clara and San Benito Counties.

The HCP includes avoidance and minimization measures for the California tiger salamander and the California red-legged frog and mitigation for unavoidable loss of habitat. The applicants' conservation strategy includes an on-site re-vegetation plan to restore temporarily impacted habitat suitable for California tiger salamanders and California red-legged frogs through removal of nonnative plants, planting and seeding of locally occurring native grassland species, and a monitoring program that describes monitoring efforts and contingency plans if success criteria are not met.

Public Comments

If you wish to comment on the draft HCP and low-effect ITP screening form, you may submit comments by one of the methods in ADDRESSES.

Before including your address, phone number, email address, or other personal identifying information in your comment, you should be aware that your entire comment, including your personal identifying information, may be made publicly available at any time. While you can ask us in your comment to withhold your personal identifying information from public view, we cannot guarantee that we will be able to do so.

Authority

We provide this notice under section 10 of the ESA (16 U.S.C. 1531 et seq.) and NEPA regulations (40 CFR 1506.6).

Stephen Henry,
Field Supervisor, Ventura Fish and Wildlife Office, Ventura, California.

[FR Doc. 2022-11227 Filed 5-24-22; 8:45 am]

BILLING CODE 4333-15-P